Title 3—

The President

Memorandum of June 3, 2013

Delegation of Certain Functions and Authorities Under the Iran Freedom and Counter-Proliferation Act of 2012

Memorandum for the Secretary of State[,] the Secretary of the Treasury[,] the Attorney General[,] the Secretary of Energy[,] the Secretary of Commerce[,] the Secretary of Homeland Security[, the] United States Trade Representative[,] the Director of National Intelligence[, the] Chairman of the Board of Governors of the Federal Reserve System[, and the] President of the Export-Import Bank

By the authority vested in me as President by the Constitution and the laws of the United States of America, including section 301 of title 3, United States Code, I hereby order as follows:

I hereby delegate functions and authorities vested in the President by the Iran Freedom and Counter-Proliferation Act of 2012 (subtitle D of title XII of Public Law 112-239) (22 U.S.C. 8801 et seq.) (IFCA), as follows:

• Section 1244(c)(1) and (c)(2) to the Secretary of the Treasury, in consultation with the Secretary of State;

• Section 1244(d)(1)(A) to the Secretary of State, in consultation with the Secretaries of the Treasury and Commerce and the United States Trade Representative, and with the Secretary of Homeland Security, the President of the Export-Import Bank of the United States, and the Chairman of the Board of Governors of the Federal Reserve System and other agencies as appropriate, and, once applicable sanctions outlined in section 6(a) of the Iran Sanctions Act of 1996 (Public Law 104-172) (50 U.S.C. 1701 note), as amended (ISA), are selected pursuant to section 1244(d)(1)(A), authority to implement such sanctions is delegated to the relevant agency heads commensurate with any delegation of such authorities and consistent with any relevant Executive Orders implementing ISA;

• Section 1244(d)(2) to the Secretary of the Treasury, in consultation with the Secretary of State;

• Section 1244(f) to the Secretary of State, in consultation with the Secretary of the Treasury;

• Section 1244(i) to the Secretary of State, in consultation with the Secretary of the Treasury;

• Section 1245(a)(1)(A) to the Secretary of the Treasury, in consultation with the Secretaries of State and Commerce and the United States Trade Representative, and with the Secretary of Homeland Security, the President of the Export-Import Bank of the United States, and the Chairman of the Board of Governors of the Federal Reserve System and other agencies as appropriate, and, once applicable sanctions outlined in section 6(a) of ISA are selected pursuant to section 1245(a)(1)(A), authority to implement such sanctions is delegated to the relevant agency heads commensurate with any delegation of such authorities and consistent with any relevant Executive Orders implementing ISA;

• Sections 1245(a)(1)(B) and (C) to the Secretary of State, in consultation with the Secretaries of the Treasury and Commerce and the United States Trade Representative, and with the Secretary of Homeland Security, the President of the Export-Import Bank of the United States, and the Chairman of the Board of Governors of the Federal Reserve System and other agencies as appropriate, and, once applicable sanctions outlined in section 6(a) of ISA are selected pursuant to section 1245(a)(1)(B) or (C), authority to implement such sanctions is delegated to the relevant agency heads commensurate with any delegation of such authorities and consistent with any relevant Executive Orders implementing ISA;

• Section 1245(c) to the Secretary of the Treasury, in consultation with the Secretary of State;

• Section 1245(e) to the Secretary of State, in consultation with the Secretary of the Treasury;

• Section 1245(f) to the Secretary of State and the Secretary of the Treasury commensurate with their respective areas of responsibility, in consultation with each other;

• Section 1245(g) to the Secretary of State, in consultation with the Secretary of the Treasury;

• Section 1246(a)(1)(A) to the Secretary of State and the Secretary of the Treasury commensurate with their respective areas of responsibility, in consultation with each other, the Secretary of Commerce and the United States Trade Representative, and with the Secretary of Homeland Security, the President of the Export-Import Bank of the United States, and the Chairman of the Board of Governors of the Federal Reserve System and other agencies as appropriate, and, once applicable sanctions outlined in section 6(a) of ISA are selected pursuant to section 1246(a)(1)(A), authority to implement such sanctions is delegated to the relevant agency heads commensurate with any delegation of such authorities and consistent with any relevant Executive Orders implementing ISA;

• Sections 1246(a)(1)(B)(i) and (ii) to the Secretary of State, in consultation with the Secretaries of the Treasury and Commerce and the United States Trade Representative, and with the Secretary of Homeland Security, the President of the Export-Import Bank of the United States, and the Chairman of the Board of Governors of the Federal Reserve System and other agencies as appropriate, and, once applicable sanctions outlined in section 6(a) of ISA are selected pursuant to section 1246(a)(1)(B)(i) or (ii), authority to implement such sanctions is delegated to the relevant agency heads commensurate with any delegation of such authorities and consistent with any relevant Executive Orders implementing ISA;

• Section 1246(a)(1)(B)(iii) to the Secretary of State and the Secretary of the Treasury commensurate with their respective areas of responsibility, in consultation with each other, the Secretary of Commerce and the United States Trade Representative, and with the Secretary of Homeland Security, the President of the Export-Import Bank of the United States, and the Chairman of the Board of Governors of the Federal Reserve System and other agencies as appropriate, and, once applicable sanctions outlined in section 6(a) of ISA are selected pursuant to section 1246(a)(1)(B)(iii), authority to implement such sanctions is delegated to the relevant agency heads commensurate with any delegation of such authorities and consistent with any relevant Executive Orders implementing ISA;

• Section 1246(a)(1)(C) to the Secretary of the Treasury, in consultation with the Secretaries of State and Commerce and the United States Trade Representative, and with the Secretary of Homeland Security, the President of the Export-Import Bank of the United States, and the Chairman of the Board of Governors of the Federal Reserve System and other agencies as appropriate, and, once applicable sanctions outlined in section 6(a) of ISA are selected pursuant to section 1246(a)(1)(C), authority to implement such sanctions is delegated to the relevant agency heads commensurate with any delegation of such authorities and consistent with any relevant Executive Orders implementing ISA;

• Section 1246(d) to the Secretary of State and the Secretary of the Treasury commensurate with their respective areas of responsibility, in consultation with each other;

• Section 1246(e) to the Secretary of State, in consultation with the Secretary of the Treasury;

• Section 1247(a) to the Secretary of the Treasury, in consultation with the Secretary of State;

• Section 1247(f) to the Secretary of State, in consultation with the Secretary of the Treasury;

• Section 1248(b)(1) to the Secretary of the Treasury, in consultation with the Secretary of State, with respect to the requirement to impose applicable sanctions pursuant to the International Emergency Economic Powers Act (50 U.S.C. 1701 et seq.) (IEEPA) described in section 105(c) of the Comprehensive Iran Sanctions, Accountability, and Divestment Act of 2010 (Public Law 111-195) (22 U.S.C. 8501 et seq.) (CISADA), and with respect to the requirement to include the sanctioned persons on the list of specially designated nationals and blocked persons maintained by the Office of Foreign Assets Control of the Department of the Treasury;

• Section 1248(b)(1) to the Secretary of State, with respect to the requirement to impose visa sanctions described in section 105(c) of CISADA;

• Section 1248(b)(3) to the Secretary of the Treasury, in consultation with the Secretary of State, with respect to application of section 401(b) of CISADA to IEEPA sanctions imposed under section 1248(b)(1)(A) of IFCA;

• Section 1248(b)(3) to the Secretary of State, in consultation with the Secretary of Homeland Security on matters related to admissibility or inadmissibility within the authority of the Secretary of Homeland Security, with respect to application of section 401(b) of CISADA to visa sanctions imposed under section 1248(b)(1)(A) of IFCA;

• Section 1252(a) to the Director of National Intelligence, in consultation with the Secretaries of State and the Treasury;

• Section 1253(a) to the Secretary of the Treasury and the Secretary of State, commensurate with their respective areas of responsibility outlined in this memorandum;

• Section 1253(c)(1) to the Secretary of State, in consultation with the Secretaries of the Treasury and Commerce and the United States Trade Representative, and with the Secretary of Homeland Security, the President of the Export-Import Bank of the United States, and the Chairman of the Board of Governors of the Federal Reserve System and other agencies as appropriate;

• Section 1253(c)(2) to the Secretary of State and the Secretary of the Treasury commensurate with their respective areas of responsibility, in consultation with each other, the Secretary of Commerce, and the United States Trade Representative, and with the Secretary of Homeland Security, the President of the Export-Import Bank of the United States, and the Chairman of the Board of Governors of the Federal Reserve System and other agencies as appropriate, and, once applicable sanctions outlined in section 6(a) of ISA are selected pursuant to section 1244(d)(1)(A), 1245(a)(1), or 1246(a)(1) (including in each case as informed by section 1253(c)(2)), authority to implement such sanctions is delegated to the relevant agency heads commensurate with any delegation of such authorities and consistent with any relevant Executive Orders implementing ISA.

I hereby delegate functions and authorities vested in the President by CISADA, as amended by section 1249 of IFCA, as follows:

• Section 105C(b) to the Secretary of the Treasury, in consultation with or at the recommendation of the Secretary of State, with respect to the determinations described in sections 105C(b)(1);

• Section 105C(b) to the Secretary of State, in consultation with the Secretary of the Treasury, with respect to the requirement to submit any lists of persons determined to meet the criteria described in sections 105C(b)(1), to the appropriate congressional committees as required by sections 105C(b);

• Section 401(b) to the Secretary of State, in consultation with the Secretary of the Treasury, with respect to the requirement to include a person on the list described in section 105C(b);

• Sections 105C(a)(1) and 401(b) to the Secretary of the Treasury, in consultation with the Secretary of State, with respect to the requirement to impose or maintain applicable sanctions pursuant to the International Emergency Economic Powers Act (50 U.S.C. 1701 et seq.) (IEEPA) under section 105C(a)(1);

• Section 105C(a)(1) to the Secretary of State, with respect to the requirement to impose or maintain visa sanctions; and

• Section 401(b) to the Secretary of State, in consultation with the Secretary of Homeland Security on matters related to admissibility or inadmissibility within the authority of the Secretary of Homeland Security, with respect to functions and waiver authorities regarding the requirement to impose or maintain visa sanctions under sections 105C(a)(1).

Any reference in this memorandum to provisions of any Act related to the subject of this memorandum shall be deemed to include references to any hereafter-enacted provisions of law that is the same or substantially the same as such provisions.

The Secretary of State is authorized and directed to publish this memorandum in the Federal Register.

THE WHITE HOUSE,

Washington, June 3, 2013.

[FR Doc. 2013-14160

Filed 6-12-13; 8:45 am]

Billing code 4710-10